FEDERAL COMMUNICATIONS COMMISSION

47 CFR Part 73

[MM Docket No. 00-44; FCC 00-343]

Extension of the Filing Requirement for Children's Television Programming Reports (FCC Form 398)

AGENCY: Federal Communications Commission.

ACTION: Proposed rule.

SUMMARY: This document seeks comment on the tentative conclusion that broadcasters who maintain internet websites should be required to post their completed quarterly Children's Television Programming Reports (FCC Form 398) on these sites. The FCC 398 is required to be filed by commercial television broadcast stations each quarter. This form is used to provide information on the efforts of commercial television stations to provide children's educational and informational programs aired to meet its obligation under the Children's Television Act of 1990 (CTA). Although the Children's Television Programming Reports are available in a central location on the FCC's website, members of the public may look first to their local broadcast station for information about programming at the station, making station website posting useful.

DATES: Comments must be filed on or before December 18, 2000; reply comments must be filed on or before January 17, 2001. Written comments by the public on the proposed information collections are due on or before December 18, 2000. Written comments must be submitted by the Office of Management and Budget (PMB) on the proposed information collection(s) on or before January 8, 2001.

FOR FURTHER INFORMATION CONTACT: Kim Matthews, Policy and Rules Division, Mass Media Bureau, at (202) 418-2130, TTY (202) 418-2989. For additional information concerning the information collection(s) contained in this document, contact Judy Boley at 202-418-0214, or via the Internet at jboley@fcc.gov.

SUPPLEMENTARY INFORMATION: This is a summary of the Further Notice of Proposed Rule Making (“FNPRM”) in MM Docket No. 00-44, FCC 00-343, adopted on September 14, 2000, and released on October 5, 2000. The full text of this decision is available for inspection and copying during regular business hours in the FCC Reference Center, 445 Twelfth Street, SW, Room CY-A257, Washington DC, and also may be purchased from the Commission's copy contractor, International Transcription Service, (202) 857-3800, 445 Twelfth Street, SW, Room CY-B402, Washington DC. The complete text is also available under the file name fcc00343.pdf on the Commission's Internet site at www.fcc.gov.

This document contains proposed information collection(s) subject to the Paperwork Reduction Act of 1995 (PRA). The general public and other Federal agencies are invited to comment on the proposed information collections contained in this proceeding.

Electronic Access and Filing Addresses

Comments may be filed using the Commission's Electronic Comment Filing System (ECFS) or by filing paper copies via the Internet to http://www.fcc.gov/e-file/ecfs.html. Parties may also submit an electronic comment by Internet e-mail. To get filing instructions for e-mail comments, commenters should send an e-mail to ecfs@fcc.gov,, and should include the following words in the body of the message, “get form, <your e-mail address>.” A sample form and directions will be sent in reply.

Paperwork Reduction Act

This document contains a proposed information collection. The Commission, as part of its continuing effort to reduce paperwork burdens, invites the general public and the Office of Management and Budget (OMB) to comment on the information collection(s) contained in the FNPRM, as required by the Paperwork Reduction Act of 1995, Public Law 104-13. Public and agency comments are due at the same time as other comments on this FNPRM; OMB comments are due January 8, 2001. Comments should address (a) whether the proposed collection of information is necessary for the proper performance of the functions of the Commission, including whether the information shall have practical utility; (b) ways to enhance the quality, utility, and clarity of the information collected; (c) ways to minimize the burden of the collection of information on the respondents, including the use of automated collection techniques or other forms of information technology.

OMB Control Number: 3060-XXXX.

Title: FNPRM—Extension of the Filing Requirement for Children's Television Programming Reports.

Form No: FCC Form 398.

Type of Review: revision of existing collection.

Respondents: business or other for-profit.

Number of respondents: 1,250.

Estimated Time Per Response: 6 hours.

Total Annual Burden: 30,000 hours.

Total Annual Costs: $489,600.

The estimated time, burden and costs are based upon the existing burdens for the FCC 398. This burden could increase depending on what requirements are ultimately adopted.

Needs and Uses: The FCC 398 is required to be filed by commercial television broadcast stations each quarter. This form is used to provide information on the efforts of commercial television stations to provide children's educational and informational programs aired to meet its obligation under the Children's Television Act of 1990 (CTA). The FCC 398 facilitates consistency of reporting among all licensees and assist in efforts by the public and the Commission to monitor station compliance with the CTA. The FNPRM seeks comments on whether broadcasters should be required to provide their completed Children's Television Programming Reports at their own websites. Depending on what requirements are ultimately adopted, there may be an increase in the burden for this form.

Synopsis of Further Notice of Proposed Rulemaking

1. We tentatively conclude that if a broadcaster maintains a website, it must post its quarterly report on that site at the same time that it places it in the station's public file. Although the Children's Television Programming Reports are available in a central location on the FCC's website, we believe that members of the public may look first to their local broadcast station, rather than the Commission, for information about the programming of the station. Our inclination is to allow stations, at their option, either to post the quarterly reports on the station's own internet website, or to create a link on the station's website directly to either the FCC's children's television webpage or to the station's most recent quarterly report on the FCC's children's television website. We note that NAB argues that it may cost stations more to provide the required form at their websites. Allowing stations simply to create a link to the FCC's website provides a less costly alternative. This option also responds to NAB's concern about any unnecessary duplication of effort associated with making the reports available both on the FCC's and the station's websites. Broadcasters must currently retain a paper copy of the report in their station public inspection file until final action has been taken on the station's next renewal of license. We seek comment on whether broadcasters that elect to maintain the reports on their own station websites should be required to maintain these reports on the website until final action has been taken on the station's next license renewal application.

2. Because the Commission's own website provides a central location where the public can access reports from all stations in their community and across the country, we want to ensure that the information on our website is easily accessible by the public. In response to a request from CME et al., the Commission staff has created a link directly from its internet homepage to its children's television webpage. We note that interested organizations can create links directly from their own websites to our children's television website if they choose.

Administrative Matters

3. Comments and Reply Comments. Pursuant to §§ 1.415 and 1.419 of the Commission's rules, §§ 1.415, 1.419, interested parties may file comments on or before December 18, 2000 and reply comments on or before January 17, 2001. Comments may be filed using the Commission's Electronic Filing System (ECFS) or by filing paper copies. See Electronic Filing of Documents in Rulemaking Proceedings, 63 FR 24121 (1998).

4. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, postal service mailing address, and the applicable docket or rulemaking number. Parties may also submit an electronic comment by Internet e-mail. To get filing instructions for e-mail comments, commenters should send an e-mail to ecfs@fcc.gov, and should include the following words in the body of the message, “get form, <your e-mail address.” A sample form and directions will be sent in reply.

5. Parties who choose to file by paper must file an original and four copies of each filing. If more than one docket or rulemaking number appear in the caption of this proceeding, commenters must submit two additional copies for each additional docket or rulemaking number. All filings must be sent to the Commission's Secretary, Magalie Roman Salas, Office of the Secretary, Federal Communications Commission, 445 Twelfth Street, S.W.; TW-A325, Washington, DC 20554.

6. Parties who choose to file by paper should also submit their comments on diskette. These diskettes should be submitted to: Wanda Hardy, 445 Twelfth Street, S.W.; 2-C221, Washington, DC 20554. Such a submission should be on a 3.5 inch diskette formatted in an IBM compatible format using WordPerfect 5.1 for Windows or compatible software. The diskette should be accompanied by a cover letter and should be submitted in “read only” mode. The diskette should be clearly labeled with the commenter's name, proceeding (including the docket number (MM Docket No. 00-44), type of pleading (comment or reply comment), date of submission, and the name of the electronic file on the diskette. The label should also include the following phrase “Disk Copy—Not an Original.” Each diskette should contain only one party's pleadings, preferably in a single electronic file. In addition, commenters must send diskette copies to the Commission's copy contractor, International Transcription Service, Inc., 445 Twelfth Street, S.W.; CY-B402, Washington, DC 20554.

7. Ex Parte Rules. This is a permit-but-disclose notice and comment rulemaking proceeding. Ex parte presentations are permitted except during the Sunshine Agenda period, provided they are disclosed as provided in the Commission's Rules. See generally 47 CFR 1.1202, 1.1203, and 1.1206(a).

8. Initial Regulatory Flexibility Analysis. With respect to the FNPRM, an Initial Regulatory Flexibility Analysis (“IRFA”). As required by section 603 of the Regulatory Flexibility Act, the Commission has prepared an IRFA of the expected impact on small entities of the proposals contained in this FNPRM. Written public comments are requested on the IRFA. In order to fulfill the mandate of the Contract With America Advancement Act of 1996 regarding the Final Regulatory Flexibility Analysis, we ask a number of questions in our IRFA regarding the prevalence of small business in the television broadcasting industry. Comments on the IRFA must be filed in accordance with the same filing deadlines as comments on the FNPRM, but they must have a distinct heading designating them as responses to the IRFA. The Commission's Consumer Information Bureau shall send a copy of this FNPRM, including the IRFA, to the Chief Counsel for Advocacy of the Small Business Administration in accordance with section 603(a) of the Regulatory Flexibility Act, Public Law 96-354, 94 Stat. 1164, 5 U.S.C. 601 et seq. (1981), as amended.

9. Initial Paperwork Reduction Act Analysis. This FNPRM may contain either proposed or modified information collections. As part of our continuing effort to reduce paperwork burdens, we invite the general public to take this opportunity to comment on the information collections contained in this FNPRM, as required by the Paperwork Reduction Act of 1996. Public and agency comments are due at the same time as other comments on the FNPRM. Comments should address: (a) whether the proposed collection of information is necessary for the proper performance of the functions of the Commission, including whether the information shall have practical utility; (b) ways to enhance the quality, utility, and clarity of the information collected; and (c) ways to minimize the burden of the collection of information on the respondents, including the use of automated collection techniques or other forms of information technology. In addition to filing comments with the Secretary, a copy of any comments on the information collections contained herein should be submitted to Judy Boley, Federal Communications Commission, 445 Twelfth Street, S.W., Room C-1804, Washington, DC 20554, or via the Internet to jboley@fcc.gov and to Edward Springer, OMB Desk Officer, 10236 NEOB, 725 17th Street, NW, Washington, DC 20503 or via the Internet to edward.springer@omb.eop.gov.

Initial Regulatory Flexibility Analysis

10. As required by the Regulatory Flexibility Act, 5 U.S.C. 603 (“RFA”), the Commission has prepared an Initial Regulatory Flexibility Analysis (“IRFA”) of the expected impact on small entities of the proposals contained in the attached FNPRM. Written public comments are requested with respect to the IRFA. These comments must be filed in accordance with the same filing deadlines for comments on the rest of the FNPRM, but they must have a separate and distinct heading, designating the comments as responses to the IRFA. The Commission shall send a copy of this FNPRM, including the IRFA, to the Chief Counsel for Advocacy of the Small Business Administration in accordance with the RFA, 5 U.S.C. 603(a).

a. Reasons Why Agency Action is Being Considered. Our goal in commencing this proceeding is to seek comment on the tentative conclusion to require commercial television broadcasters that maintain a website to post their quarterly Children's Television Programming Reports on that site at the same time that they place the reports in the station's public inspection file. We also seek comment on whether broadcasters should be required to maintain the reports on the website until final action has been taken on the station's next license renewal.

b. Need For and Objectives of the Proposed Rule Changes. Although the Children's Television Programming Reports are available in a central location on the FCC's website, the FCC believes that members of the public may look first to their local broadcast station, rather than the Commission, for information about the programming of the station. We invite comment on this view and ask commenters to provide detailed information on any costs or other burdens associated with requiring those stations that maintain websites to post their quarterly reports on the sites.

c. Legal Basis. Authority for the actions proposed in the FNPRM may be found in sections 4(i) and 303, 307, and 336(d) of the Communications Act of 1934, as amended, 47 U.S.C. 154(i), 303, 307, and 336(d), and in the Children's Television Act of 1990.

d. Recording, Recordkeeping, and Other Compliance Requirements. The FNPRM invites comment on the tentative conclusion to require commercial television broadcasters that maintain a website to post their quarterly Children's Television Programming Reports on that site at the same time that they place the reports in the station's public inspection file. We also seek comment on whether broadcasters should be required to maintain the reports on the website until final action has been taken on the station's next license renewal.

e. Federal Rules that Overlap, Duplicate, or Conflict with the Proposed Rules. The rules under consideration in this proceeding do not overlap, duplicate, or conflict with any other rules.

f. Description and Estimate of the Number of Small Entities to Which the Rules Would Apply. Under the RFA, small entities may include small organizations, small businesses, and small governmental jurisdictions. 5 U.S.C. 601(6). The RFA, 5 U.S.C. 601(3), generally defines the term “small business” as having the same meaning as the term “small business concern” under the Small Business Act, 15 U.S.C. 632. A small business concern is one which: (1) Is independently owned and operated; (2) is not dominant in its field of operation; and (3) satisfies any additional criteria established by the Small Business Administration (“SBA”). Pursuant to 5 U.S.C. 601(3), the statutory definition of a small business applies “unless an agency after consultation with the Office of Advocacy of the SBA and after opportunity for public comment, establishes one or more definitions of such term which are appropriate to the activities of the agency and publishes such definition(s) in the Federal Register.

Small TV Broadcast Stations. The SBA defines small television broadcasting stations as television broadcasting stations with $10.5 million or less in annual receipts. BIA Research Inc. reports that 784 out of 1221 commercial television stations (64%) have annual revenues of less than $10.5 million.

The requirement to prepare quarterly Children's Television Programming Reports applies to commercial broadcast television stations. Thus, we estimate that 784 or fewer commercial TV broadcast stations are small businesses, as defined by the SBA.

g. Any Significant Alternatives Minimizing the Impact on Small Entities and Consistent with the Stated Objectives: The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603( c).

11. This FNPRM invites comment generally on the tentative conclusion to require commercial television broadcasters that maintain a website to post their quarterly Children's Television Programming Reports on that site at the same time that they place the reports in the station's public inspection file. We also seek comment on whether broadcasters should be required to maintain the reports on the website until final action has been taken on the station's next renewal license. We seek comment on whether there is a significant economic impact on any class of small licensees as a result of any of these proposals. Any significant alternatives presented in the comments will be considered.

Ordering Clauses

12. The Commission's Consumer Information Bureau, Reference Information Center, shall send a copy of this FNPRM, including the Initial and Final Regulatory Flexibility Act Analyses, to the Chief Counsel for the Small Business Administration.

List of Subjects in 47 CFR Part 73

Television broadcasting.

Federal Communications Commission.
Magalie Roman Salas,
Secretary.

Rules

Part 73 of title 47 of the U.S. Code of Federal Regulations is proposed to be amended to read as follows:

PART 73—RADIO BROADCAST SERVICES

1. The authority citation for part 73 continues to read as follows:

Authority: 47 U.S.C. 154, 303, 334 and 336.

2. Section 73.3526 is amended by revising paragraph (e)(11)(iii) to read as follows:

§ 73.3526 Local public inspection file of commercial stations.

* * * * *

(e) * * *

(11) * * *

(iii) Children's television programming reports. For commercial TV broadcast stations, on a quarterly basis, a completed Children's Television Programming Report (“Report”), on FCC Form 398, reflecting efforts made by the licensee during the preceding quarter, and efforts planned for the next quarter, to serve the educational and informational needs of children. The Report for each quarter is to be placed in the public inspection file by the tenth day of the succeeding calendar quarter. By this date, a copy of the Report for each quarter is also to be filed electronically with the FCC. The Report shall identify the licensee's educational and informational programming efforts, including programs aired by the station that are specifically designed to serve the educational and informational needs of children, and it shall explain how programs identified as Core Programming meet the definition set forth in § 73.671(c). The Report shall include the name of the individual at the station responsible for collecting comments on the station's compliance with the Children's Television Act, and it shall be separated from other materials in the public inspection file. The Report shall also identify the program guide publishers to which information regarding the licensee's educational and informational programming was provided as required in § 73.673(b), as well as the station's license renewal date. These Reports shall be retained in the public inspection file until final action has been taken on the station's next license renewal application. Licensees shall publicize in an appropriate manner the existence and location of these Reports.

* * * * *

[FR Doc. 00-28611 Filed 11-8-00; 8:45 am]

BILLING CODE 6712-01-P